FEDERAL COMMUNICATIONS COMMISSION

47 CFR Part 73

[DA 00-1237, MM Docket No. 00-104, RM-9812]

Digital Television Broadcast Service; Oklahoma City, OK

AGENCY: Federal Communications Commission.

ACTION: Proposed rule.

SUMMARY: The Commission requests comments on a petition filed by Paramount Stations Group of Oklahoma LLC, licensee of station KAUT-TV, NTSC Channel 43, Oklahoma City, Oklahoma, requesting the substitution of DTV Channel 40 for its assigned DTV 42. DTV Channel 40 can be allotted to Oklahoma City in compliance with the principle community coverage requirements of Section 73.625(a) at coordinates 35-35-22 N. and 97-29-03 W. DTV Channel 40 can be allotted to Oklahoma City with a power of 57.7 kW and a height above average terrain (HAAT) of 475 meters.

DATES: Comments must be filed on or before July 31, 2000, and reply comments on or before August 15, 2000.

ADDRESSES: Federal Communications Commission, 445 12th Street, SW, Room TW-A325, Washington, DC 20554. In addition to filing comments with the FCC, interested parties should serve the petitioner, or its counsel or consultant, as follows: James R. Bayes, E. Joseph Knoll III, Wiley, Rein & Fielding, 1776 K Street, NW, Washington, DC 20006 (Counsel for Paramount Stations Group of Oklahoma City LLC).

FOR FURTHER INFORMATION CONTACT: Pam Blumenthal, Mass Media Bureau, (202) 418-1600.

SUPPLEMENTARY INFORMATION: This is a synopsis of the Commission's Notice of Proposed Rule Making, MM Docket No. 00-104, adopted June 7, 2000, and released June 8, 2000. The full text of this Commission decision is available for inspection and copying during normal business hours in the FCC Reference Center 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-15265 Filed 6-15-00; 8:45 am]

BILLING CODE 6712-01-U